DEPARTMENT OF THE INTERIOR

Bureau of Land Management

[PO4820000251]

Notice of Proposed Withdrawal and Opportunity for Public Meeting; Nevada

AGENCY: Bureau of Land Management, Interior.

ACTION: Notice of proposed withdrawal.

SUMMARY: The Secretary of the Interior proposes to withdraw approximately 1,805 acres of public lands in the Las Vegas Valley from settlement, sale, location, or entry under the public land laws, including from location and entry under the United States mining laws, but not from disposal of mineral materials under the mineral materials disposal laws or leasing under the mineral and geothermal leasing laws, for a period of up to 20 years, subject to valid existing rights. The purpose of the withdrawal would be to protect the natural and cultural resources in the lands adjacent to the Las Vegas Tribe of Paiute Indians of the Las Vegas Indian Colony, Clark County, Nevada. The lands would remain under the management of the Bureau of Land Management (BLM). Publication of this notice temporarily segregates the land for up to 2 years from settlement, sale, location, or entry under the public land laws, including from location and entry under the United States mining laws, subject to valid existing rights, while the application is being processed. The notice initiates a 90-day public comment period and announces an opportunity to request a public meeting regarding the withdrawal proposal.

DATES: All comments and requests for a public meeting must be received by April 14, 2025.

ADDRESSES: All comments and requests for a public meeting should be sent to the Bureau of Land Management, Las Vegas Field Office, Attn: Joe Varner/Snow Mountain Withdrawal, 4701 N. Torrey Pines Dr., Las Vegas, NV, 89130, or via email at blm_nv_lvfo_landtenureteam@blm.gov. The BLM will not consider comments via telephone calls.

FOR FURTHER INFORMATION CONTACT: Joe Varner, Supervisory Realty Specialist, Las Vegas Field Office at (702) 515-5488. Individuals in the United States who are deaf, deafblind, hard of hearing, or have a speech disability may dial 711 (TTY, TDD, or TeleBraille) to access telecommunications relay services for contacting Ms. Brown. Individuals outside the United States should use the relay services offered within their country to make international calls to the point-of-contact in the United States.

SUPPLEMENTARY INFORMATION: The public lands are located adjacent to the Las Vegas Tribe of Paiute Indians of the Las Vegas Indian Colony, Nevada, and the lands hold cultural significance for the Tribe as aboriginal inhabitants of the Las Vegas Valley and are important to economic sustainability and preservation of Tribal culture.

The withdrawal application includes the following lands within Clark County, Nevada:

Mount Diablo Meridian, Nevada

T. 18 S., R. 59 E.,

Sec. 8, lots 8, 10, 12, 14, 16, 18, 20, 22, and 25, S½NE¼SW¼, S½NE¼SE¼, S½NW¼SE¼, and S½SE¼, those portions lying northeasterly of the easterly right-of- way line of U.S. Highway No. 95;

Sec. 9, lots 12, 14, 16, 18, 20, 22, 24, 26, and 28, lots 30 thru 33, S½NW¼SW¼, and S½SW¼;

Sec. 14, W½SW¼SW¼, SE¼SW¼SW¼, and S½SE¼SW¼;

Sec. 15, lots 2, 4, 6, and 8, lots 11 thru 14, lots 17 and 18, SW¼SW¼NE¼, W½NW¼NW¼NW¼, SW¼NW¼NW¼, W½SE¼NW¼NW¼, S½NW¼, SW¼, W½NE¼SE¼, SE¼NE¼SE¼, W½SE¼, and SE¼SE¼;

Sec. 16, lots 1 thru 4, NW¼, NE¼SW¼, and SE¼, those portions lying northeasterly of the easterly right-of-way line of U.S. Highway No. 95;

Sec. 17, NE¼NE¼, that portion lying northeasterly of the easterly right-of-way line of U.S. Highway No. 95;

Sec. 21, lot 1, that portion lying northeasterly of the easterly right-of-way line of U.S. Highway No. 95;

Sec. 23, W½NE¼NE¼, SE¼NE¼NE¼, W½NE¼, SE¼NE¼, W½, and SE¼;

Sec. 24, W½SW1/4NW¼, SE¼SW¼NW¼, W½NE¼SW¼, NW¼SW¼, N½SW¼SW¼, and SW¼SW¼SW¼.

The area described contains approximately 1,805 acres, according to the official plats of the surveys of the said land, on file with the BLM, combined with areas computed against the easterly right-of-way line of U.S. Hwy. No. 95.

The BLM submitted a petition to the Secretary of the Interior to file a withdrawal application. The Secretary of the Interior approved the BLM's petition. Therefore, the petition/application constitutes a withdrawal proposal of the Secretary of the Interior (43 CFR 2310.1-3(e)).

The use of a right-of-way, or interagency or cooperative agreement would not provide adequate protection of the important natural and cultural resource values of the area and ensure economic sustainability for the Tribe.

No additional water rights will be needed to fulfill the purpose of this proposed withdrawal.

There are no suitable alternative sites since these lands are adjacent to the Las Vegas Tribe of Paiute Indians of the Las Vegas Indian Colony, Nevada. The described lands are currently identified for disposal, pursuant to the Southern Nevada Public Land Management Act, as amended (Pub. L. 105-263), threatening protection of the important natural and cultural resource values in this area.

Before including your address, phone number, email address, or other personal identifying information in your comment, you should be aware that your entire comment, including your personal identifying information, may be made publicly available at any time. While you can ask us in your comment to withhold your personal identifying information from public review, we cannot guarantee that we will be able to do so.

Notice is hereby given that an opportunity for a public meeting is afforded in connection with a withdrawal. All interested persons who desire a public meeting for the purpose of being heard on the proposed withdrawal must submit a written request to the BLM address listed above no later than April 14, 2025. If the authorized officer determines that a public meeting will be held, a notice of the time, date and location will be published in the Federal Register and a local newspaper at least 30 days before the scheduled date of the meeting.

For a period until January 14, 2027 the public land described earlier will be segregated from settlement, sale, location, or entry under the public land laws, including from location and entry under the United States mining laws, subject to valid existing rights, unless the application is denied or canceled, or the withdrawal is approved prior to that date. Licenses, permits, cooperative agreements, or discretionary land use authorizations of a temporary nature may be allowed with the approval of the authorized officer of the BLM, during the temporary segregation period, if they would comply with the applicable BLM land use plans for the described public lands located within the withdrawal application boundary and the terms of any overlapping withdrawals. The lands are already withdrawn from location and entry under the mining laws and from operation of the mineral and geothermal leasing laws by the terms of an overlapping withdrawal under section 4 of the Southern Nevada Public Land Management Act, Public Law 105-263.

This application will be processed in accordance with the regulations set forth in 43 CFR part 2300.

(Authority: 43 U.S.C. 1714)

Jon K. Raby,
State Director.

[FR Doc. 2025-00606 Filed 1-13-25; 8:45 am]

BILLING CODE 4331-21-P